DEPARTMENT OF AGRICULTURE

Food and Nutrition Service

National School Lunch, Special Milk, and School Breakfast Programs, National Average Payments/Maximum Reimbursement Rates

Correction

In notice document 2018-15465, appearing on pages 34105 through 34108, in the issue of Thursday, July 19, 2018, make the following correction:

On page 34107, in the table, in the “Maximum Rate” column, in the first row, “0.30” should read “0.39”.

[FR Doc. C1-2018-15465 Filed 8-9-18; 8:45 am]

BILLING CODE 1301-00-D